DEPARTMENT OF THE INTERIOR

Bureau of Ocean Energy Management

Gulf of Mexico, Outer Continental Shelf (OCS), Central Planning Area (CPA) Oil and Gas Lease Sale 227

AGENCY: Bureau of Ocean Energy Management (BOEM), Interior.

ACTION: Notice of Availability (NOA) of a Record of Decision (ROD) for CPA Lease Sale 227 in the Gulf of Mexico OCS Oil and Gas Lease Sales: 2012-2017 Western Planning Area Lease Sales 229, 233, 238, 246, and 248; and Central Planning Area Lease Sales 227, 231, 235, 241, and 247; Final Environmental Impact Statement (Multisale FEIS).

Authority: This NOA is published pursuant to the regulations (40 CFR 1506) implementing the provisions of the National Environmental Policy Act (NEPA) of 1969, as amended (42 U.S.C. 4321 et seq. (1988)).

SUMMARY: BOEM has prepared a ROD for oil and gas CPA Lease Sale 227 scheduled for March 20, 2013. CPA Lease Sale 227 is the first CPA lease sale in the 2012-2017 OCS Oil and Gas Leasing Program. The proposed lease sale is in the Gulf of Mexico's CPA off the States of Louisiana, Alabama, and Mississippi. In making its decision, BOEM considered alternatives to the proposed action and the potential impacts as presented in the Multisale FEIS and all comments received throughout the NEPA process. The Multisale FEIS evaluated the environmental and socioeconomic impacts for CPA Lease Sale 227.

SUPPLEMENTARY INFORMATION: In the Multisale FEIS, BOEM evaluated three alternatives, which are summarized below:

Alternative A—The Proposed Action: This is BOEM's preferred alternative. This alternative would offer for lease all unleased blocks within the CPA for oil and gas operations with the following exceptions:

(1) Whole and portions of blocks deferred by the Gulf of Mexico Energy Security Act of 2006;

(2) Blocks that are beyond the United States Exclusive Economic Zone in the area known as the northern portion of the Eastern Gap; and

(3) Whole and partial blocks that lie within the 1.4 nautical mile buffer zone north of the maritime boundary between the United States and Mexico.

The proposed CPA lease sale area encompasses about 63 million acres of the total CPA area of 66.45 million acres. As of October 2012, approximately 38 million acres of the CPA lease sale area are currently unleased. The estimated amount of resources projected to be developed as a result of proposed CPA Lease Sale 227 is 0.460-0.894 billion barrels of oil and 1.939-3.903 trillion cubic feet of gas.

Alternative B—The Proposed Action Excluding the Unleased Blocks Near Biologically Sensitive Topographic Features: This alternative would offer for lease all unleased blocks in the CPA, as described for the proposed action (Alternative A), with the exception of any unleased blocks subject to the Topographic Features Stipulation.

Alternative C—No Action: This alternative would cancel the proposed CPA Lease Sale 227 and is identified as the environmentally preferred alternative.

After careful consideration, BOEM has selected a subset of the proposed action, identified as BOEM's preferred alternative (Alternative A) in the Multisale FEIS with a change to exception 2 above to read, blocks that are adjacent to the southern extent of or beyond the United States Exclusive Economic Zone. BOEM's selection of this alternative balances the need for orderly resource development with protection of the human, marine, and coastal environments, while simultaneously ensuring that the public receives an equitable return for these resources and that free-market competition is maintained.

Record of Decision Availability: To obtain a single printed or CD-ROM copy of the ROD for proposed CPA Lease Sale 227, you may contact the BOEM, Gulf of Mexico OCS Region, Public Information Office (GM 250I), 1201 Elmwood Park Boulevard, New Orleans, Louisiana 70123-2394 (1-800-200-GULF). An electronic copy of the ROD is available on BOEM's Internet Web site at http://boem.gov/Environmental-Stewardship/Environmental-Assessment/NEPA/nepaprocess.aspx.

FOR FURTHER INFORMATION CONTACT: For more information on the ROD, you may contact Mr. Gary D. Goeke, Bureau of Ocean Energy Management, Gulf of Mexico OCS Region, 1201 Elmwood Park Boulevard (GM 623E), New Orleans, Louisiana 70123-2394. You may also contact Mr. Goeke by telephone at (504) 736-3233.

Tommy P. Beaudreau,
Director, Bureau of Ocean Energy Management.

[FR Doc. 2013-03039 Filed 2-8-13; 8:45 am]

BILLING CODE 4310-MR-P